Title 3—

The President

Proclamation 7539 of April 10, 2002

National D.A.R.E. Day, 2002

By the President of the United States of America

A Proclamation

Illegal drugs are the enemy of ambition and hope, destroying individual lives and undermining the health of our communities. In addition to the tragic consequences of drug use for Americans and their families, the drug trade supports terrorist networks that threaten our country and our allies around the world. When we fight the war on drugs, we also fight the war on terror.

The Drug Abuse Resistance Education (D.A.R.E) curriculum plays an important role in helping our young people understand the many reasons to avoid drugs. D.A.R.E. is a series of lessons, taught by specially-trained police officers, that encourages students to live healthy, drug-free lives. According to the University of Akron Institute for Health and Social Policy, the program operates in 80 percent of our school districts, reaching 26 million young people in America each year. In addition to promoting the right decisions about drugs, D.A.R.E. helps build relationships among parents, teachers, law enforcement officers, and others interested in preventing drug use in their communities.

My Administration is committed to keeping the fight against drugs among our Nation's top priorities. I have proposed new goals for our country, including a 10 percent reduction in teenage and adult drug use over the next 2 years, and a 25 percent reduction over 5 years. My National Drug Control Strategy is a community-based approach, incorporating three core principles: (1) stopping drug use before it starts; (2) healing America's drug users; and (3) disrupting the market for drugs in our country. In addition, my 2003 budget proposes $19.2 billion for drug control. This includes $3.8 billion for drug treatment and research, an increase of more than 6 percent over 2002.

Drugs attack everything that is best about our country, robbing Americans, young and old, and their families of dignity and character. Today, we recognize D.A.R.E. as a critical part in our effort to teach young people how to avoid drug use and the devastating effects that drugs can inflict upon their health and on their future.

NOW, THEREFORE, I, GEORGE W. BUSH, President of the United States of America, by virtue of the authority vested in me by the Constitution and laws of the United States, do hereby proclaim April 11, 2002, as National D.A.R.E. Day. I call upon youth, parents, educators, and all Americans to observe this day by joining the fight against drugs in your communities. I also encourage our citizens to express appreciation for the law enforcement officers, volunteers, and others who work to help young people avoid the dangers of drug use.

IN WITNESS WHEREOF, I have hereunto set my hand this tenth day of April, in the year of our Lord two thousand two, and of the Independence of the United States of America the two hundred and twenty-sixth.

B

[FR Doc. 02-9174

Filed 4-11-02; 10:47 am]

Billing code 3195-01-P